DEPARTMENT OF COMMERCE

National Oceanic and Atmospheric Administration

[RTID 0648-XB559]

Western Pacific Fishery Management Council; Public Meeting

AGENCY: National Marine Fisheries Service (NMFS), National Oceanic and Atmospheric Administration (NOAA), Commerce.

ACTION: Notice of public meetings.

SUMMARY: The Western Pacific Fishery Management Council (Council) will hold meetings of its Fishing Industry Advisory Committee (FIAC), Non-Commercial Fisheries Advisory Committee (NCFAC), Social Science Planning Committee (SSPC), American Samoa Archipelago Fishery Ecosystem Plan (FEP) Advisory Panel (AP), the Pelagic Standing Committee of the Council, Mariana Archipelago FEP-Guam AP, Mariana Archipelago FEP-Commonwealth of the Northern Mariana Islands (CNMI) AP, and Hawaii Archipelago FEP AP to discuss and make recommendations on fishery management issues in the Western Pacific Region.

DATES: The meetings will be held Tuesday, November 16, 2021 through Friday, November 19, 2021. For specific dates, times and agendas, see SUPPLEMENTARY INFORMATION.

ADDRESSES: Each of the meetings will be held by web conference via Webex. Instructions for connecting to the web conference and providing oral public comments will be posted on the Council website at www.wpcouncil.org. For assistance with the web conference connection, contact the Council office at (808) 522-8220.

FOR FURTHER INFORMATION CONTACT: Kitty M. Simonds, Executive Director, Western Pacific Fishery Management Council; telephone: (808) 522-8220.

SUPPLEMENTARY INFORMATION: The FIAC will meet on Tuesday, November 16, 2021, from 1 p.m. to 4 p.m.; the NCFAC will meet on Tuesday, November 16, 2021, from 3 p.m. to 5 p.m.; the American Samoa Archipelago FEP AP will meet on Tuesday, November 16, 2021, from 6 p.m. to 8 p.m.; the Pelagic Standing Committee will meet on Wednesday, November 17, 2021, from 1 p.m. to 4 p.m.; the Mariana Archipelago FEP-CNMI AP will meet on Thursday, November 18, 2021, from 1:30 p.m. to 3:30 p.m.; the Mariana Archipelago FEP-Guam AP will meet on Thursday, November 18, 2021, from 6:30 p.m. to 8:30 p.m.; the SSPC will meet on Thursday, November 18, 2021, from 1 p.m. to 4 p.m.; and the Hawaii Archipelago FEP AP will meet on Friday, November 19, 2021, from 1:30 p.m. to 4:30 p.m. All times listed are Local Island times except for the FIAC, NCFAC, Pelagic Standing Committee, and SSPC are Hawaii Standard Time.

Public comment periods will be provided in the agendas. The order in which agenda items are addressed may change. The meetings will run as late as necessary to complete scheduled business.

Schedule and Agenda for the FIAC Meeting

Tuesday, November 16, 2021, 1 p.m.-4 p.m. (Hawaii Standard Time)

1. Welcome and Introductions

2. Status Report on Sept 2021 FIAC Recommendations

3. Update on Fishing and Marketing Issues/Impacts (i.e., billfish, crew, transportation, etc.)

4. Modification of Seabird Interaction Mitigation Measures in the Deep-set Longline Fishery

5. Preparations for 18th WCPFC Regular Session

A. South Pacific Tuna Treaty Updates

B. South Pacific Albacore Management Issues

C. U.S. Permanent Advisory Committee to the WCPFC

D. Proposed Revisions to WCPFC Tropical Tuna Conservation and Management Measures

6. False Killer Whale Acoustic Study and Take Reduction Team Research Priorities

7. Research needs and priorities

A. Bycatch Reduction and Engineering Program

B. Saltonstall-Kennedy Program

C. Council Coral Reef Program

8. Report on American Samoa Gear Diversification Project

9. Report on Marianas Bottomfish Fishery Development and Training

10. Other Issues

11. Public Comment

12. Discussion and Recommendations

Schedule and Agenda for the NCFAC Meeting

Tuesday, November 16, 2021, 3 p.m.-5 p.m. (Hawaii Standard Time)

1. Welcome and Introductions

2. Review of Last NCFAC Meeting and Recommendations

3. Discussion on Fishery Allocations

A. Allocation Trigger Policy

B. Potential for Future Allocations in PI Fisheries

4. Update on National Recreational Fishing Summit

5. Council Coral Reef Program

6. Fishermen Observations

7. Non-Commercial Fishing Activities, Issues, and Efforts

8. Public Comment

9. Discussion and Recommendations

10. Other Business

Schedule and Agenda for the American Samoa FEP AP Meeting

Tuesday, November 16, 2021, 6 p.m.-8 p.m. (American Samoa Standard Time)

1. Welcome and Introductions

2. Review of the Last AP Meeting and Recommendations

3. American Samoa Sustainable Fisheries Fund (SFF) Project Reports

A. Manua Kids Fishing Tournament

B. American Samoa Public Service Announcements and Curriculum Development

C. Longline Improvement Projects

i. Alia Fishing Upgrades

ii. Longline Albacore Jigging

iii. Ice Project

4. American Samoa Fishery Outreach and Education

5. American Samoa Fishery Issues and Activities

A. American Samoa bottomfish Data Workshop/Evaluation

B. Territorial Bottomfish Fishery Management Plan (FMP)

C. Council Coral Reef Program

D. American Samoa Fishermen Observations

E. Advisory Panel Issues

6. Annual Report of American Samoa AP Activities

A. 2021 Plan and Activities Update

B. Planning for 2022/End of Term

7. Public Comment

8. Discussion and Recommendations

9. Other Business

Schedule and Agenda for the Pelagic Standing Committee Meeting

Wednesday, November 17, 2021, 1 p.m.-4 p.m. (Marianas Standard Time)

1. Update on American Samoa and Hawaii Longline Fisheries

2. Modification of Seabird Interaction Measures in the Deep-set Longline Fishery (Action Item)

3. Report on Endangered Species Act (ESA) Biological Opinions

4. Report from Hawaii Longline Association

5. Report from Tautai Samoa Longline Fishing Association

6. Preparations for 18th Western and Central Pacific Fisheries Commission (WCPFC) Regular Session

A. South Pacific Tuna Treaty Updates

B. South Pacific Albacore Management Issues

C. U.S. Permanent Advisory Committee to the WCPFC

D. Proposed Revisions to WCPFC Tropical Tuna CMM

7. Advisory Group Report and Recommendations

8. Other Business

9. Public Comment

10. Discussion and Recommendations

Schedule and Agenda for the Mariana Archipelago FEP-CNMI AP Meeting

Thursday, November 18, 2021, 1:30 p.m.-3:30 p.m. (Marianas Standard Time)

1. Welcome and Introductions

2. Review of the Last AP Meeting and Recommendations

3. CNMI AP Issue Reports

A. Fish Aggregation Devices (FADs)

B. Fishery Infrastructure

4. CNMI AP Outreach and Education

5. CNMI Fishery Issues and Activities

A. Military Issues and Concerns

B. Catch-It, Log-It Transfer and Mandatory Licensing and Reporting Requirements

C. SFF Project Updates

D. Council Coral Reef Program

E. CNMI Fishermen Observations

F. CNMI AP Issues

6. Annual Report of CNMI AP Activities

A. 2021 Plan and Activities

B. Planning for 2022/End of Term

7. Public Comment

8. Discussion and Recommendations

9. Other Business

Schedule and Agenda for the Mariana Archipelago FEP-Guam AP Meeting

Thursday, November 18, 2021, 6:30 p.m.-8:30 p.m. (Marianas Standard Time)

1. Welcome and Introductions

2. Review of the Last AP Meeting and Recommendations

3. Guam Fishery Issues and Activities

A. Military Issues and Concerns

B. Territorial FMP Development

i. Coral Reef FMP

ii. Mandatory License and Reporting Discussion

C. FAD issues and Solutions

D. Guam AP outreach and Education

E. Council Coral Reef Program

F. Guam Fishermen Observations

G. Guam AP Issues

4. Annual Report of Guam AP Activities

A. 2021 Plan and Activities

B. Planning for 2022/End of Term

5. Public Comment

6. Discussion and Recommendations

7. Other Business

Schedule and Agenda for the SSPC Meeting

Thursday, November 18, 2021, 1 p.m.-4 p.m. (Hawaii Standard Time)

1. Welcome and Introductions

2. Approval of Agenda

3. Socioeconomic Modules for the Annual SAFE Reports

4. Social Science Strategic Plan Update

5. Environmental Justice in Fisheries Management

6. Fishermen's Observations

7. Public Comment

8. Discussion and Recommendations

9. Other Business

Schedule and Agenda for the Hawaii Archipelago FEP AP Meeting

Friday, November 19, 2021, 1:30 p.m.-4:30 p.m. (Hawaii Standard Time)

1. Welcome and Introductions

2. Review of the Last AP Meeting and Recommendations

3. Council Issues

A. Modification of Hawaii Longline Seabird Interaction Mitigation Measures

B. Proposed NWHI National Marine Sanctuary Update

C. Green Turtle Management Update

4. AP Plan and Working Group Reports

A. Smart FADs

B. FishMaps

C. Offshore Energy

5. AP Outreach and Education

6. Hawaii Fishery Issues and Activities

A. State of Hawaii Sportfish Funding Report

B. Council Coral Reef Program

C. Hawaii Fishermen Observations

D. Advisory Panel Issues

7. Annual Report of Hawaii AP Activities

A. 2021 Plan and Activities

B. Planning for 2022/End of Term

8. Public Comment

9. Discussion and Recommendations

10. Other Business

Special Accommodations

These meetings are physically accessible to people with disabilities. Requests for sign language interpretation or other auxiliary aids should be directed to Kitty M. Simonds, (808) 522-8220 (voice) or (808) 522-8226 (fax), at least 5 days prior to the meeting date.

(Authority: 16 U.S.C. 1801 et seq.)

Dated: October 27, 2021.
Tracey L. Thompson,
Acting Deputy Director, Office of Sustainable Fisheries, National Marine Fisheries Service.

[FR Doc. 2021-23755 Filed 10-29-21; 8:45 am]

BILLING CODE 3510-22-P